NATIONAL SCIENCE FOUNDATION

Request for Information—Interagency Arctic Research Policy Committee, Chaired by the National Science Foundation; Extension of Public Comment Period

AGENCY: National Science Foundation.

ACTION: Request for information; extension of public comment period.

SUMMARY: On April 3, 2020, the National Science Foundation, on behalf of the Interagency Arctic Research Policy Committee (IARPC), announced a request for information regarding development of the next 5-year Arctic Research Plan: 2022-2026, originally open for a 90-day public comment period. In response to the challenges of providing input on the next 5-year Arctic Research Plan: 2022-2026 during the current global pandemic, IARPC is extending the public comment period for an additional 30 days.

DATES: Written comments must be submitted no later than August 2, 2020.

ADDRESSES: Email comments to IARPCPlan@nsf.gov. Send written submissions to Roberto Delgado, Office of Polar Programs, National Science Foundation, 2415 Eisenhower Avenue, Alexandria, VA 22314.

FOR FURTHER INFORMATION: Contact Meredith LaValley at 940-733-5675.

SUPPLEMENTARY INFORMATION: On April 3, 2020, IARPC, chaired by the National Science Foundation, announced the start of a public comment period on the content and organization of the next 5-year Arctic Research Plan: 2022-2026 (85 FR 19031). In response to the challenges of providing input during the current global pandemic, IARPC is extending the public comment period by an additional 30 days. Comments must be received or postmarked by no later than August 2, 2020. Please see the original Federal Register notice for further information (85 FR 19031).

Dated: April 22, 2020.
Suzanne H. Plimpton,
Reports Clearance Officer, National Science Foundation.

[FR Doc. 2020-08857 Filed 4-24-20; 8:45 am]

BILLING CODE 7555-01-P